Proclamation 10167 of March 31, 2021

National Child Abuse Prevention Month, 2021

By the President of the United States of America

A Proclamation

As we begin to emerge from a year of unprecedented stress and hardship, children and families need our support more than ever. The confluence of a devastating pandemic and the worst economic crisis in nearly a century have increased the risk for child abuse and neglect as Americans grapple with the compounding challenges of school and child care facility closures, social isolation, and increased financial instability. Children and families of color—who so often across our history have been underserved, marginalized, and adversely affected by persistent poverty and inequality—face even greater adversity today as they disproportionately carry the burdens of the COVID-19 crisis. During National Child Abuse Prevention Month, and throughout the entire year, it is imperative that we join together as one Nation to combat child abuse in all of its forms—through neglect, mistreatment, or physical, emotional, or sexual abuse.

Community-based child abuse prevention programs are a critical tool for preventing the mistreatment of children and advancing equity. Authorized by Title II of the Child Abuse Prevention and Treatment Act, the purpose of community-based child abuse prevention programs is to support local efforts that strengthen and support families to reduce the likelihood of child abuse. These programs offer comprehensive assistance that improves family stabilization, while also fostering meaningful engagement with diverse populations to promote effective prevention strategies.

Across our country, a vast network of frontline workers, court and legal professionals, faith leaders, volunteers, teachers, and helpful loved ones and neighbors work every day to support the wellbeing of our children. They deserve our recognition and our sincere gratitude, particularly in the midst of this difficult year. Though the pandemic has changed the ways that they interact with the families they serve, they have shown remarkable resilience, and their dedication to preventing child abuse continues to transform lives.

We recognize that within the larger context of addressing child abuse, there is a need to specifically address issues of sexual violence against children and adolescents. My Administration is committed to expanding efforts to improve prevention initiatives, enhance trauma-informed responses to assist children and adolescents impacted by sexual violence, and work toward healing and justice. It is an imperative not only in the United States, but also in galvanizing global action to end sexual violence against children and adolescents.

National Child Abuse Prevention Month is a time for us to not only honor those who work to support children and strengthen families, but to shine a light on the many ways we can all play a role in preventing children from being harmed. The Prevention Resource Guide, an annual publication by the Department of Health and Human Services, Administration for Children and Families Children's Bureau outlines actions that can be taken by communities, organizations, families, and individuals to address the root causes of child abuse and provide meaningful and equitable support to families. You can access the Prevention Resource Guide and other resources at the Child Welfare Information Gateway's Child Abuse Prevention Month website. By increasing efforts to prevent child abuse, we will help children, families, and communities thrive.

NOW, THEREFORE, I, JOSEPH R. BIDEN JR., President of the United States of America, by virtue of the authority vested in me by the Constitution and the laws of the United States, do hereby proclaim April 2021 as National Child Abuse Prevention Month. I call upon all Americans to protect our Nation's greatest resource—its children—and to take an active role in supporting children and parents and creating safe communities filled with thriving families.

IN WITNESS WHEREOF, I have hereunto set my hand this thirty-first day of March, in the year of our Lord two thousand twenty-one, and of the Independence of the United States of America the two hundred and forty-fifth.

[FR Doc. 2021-07167

Filed 4-5-21; 8:45 am]

Billing code 3295-F1-P